FEDERAL ELECTION COMMISSION

Sunshine Act Meetings

AGENCY: Federal Election Commission.

Date and Time: Thursday, July 13, 2017 at 10:00 a.m.

Place: 999 E Street NW., Washington, DC (Ninth Floor).

Status: This Meeting Will Be Open to the Public.

Items to be Discussed:

Request by the Sergeant at Arms of the United States House of Representatives Regarding the Possible Use of Campaign Funds for Residential Security Systems

Draft Advisory Opinion 2017-07: Sergeant at Arms

Draft Advisory Opinion 2017-05: Great America PAC and Committee to Defend the President

Proposed Interim Enforcement Policy for “Volunteer Mail” Exemption

Discussion of Commission's Response to Alleged Foreign Interference in American Elections

Management and Administrative Matters

Individuals who plan to attend and require special assistance, such as sign language interpretation or other reasonable accommodations, should contact Dayna C. Brown, Secretary and Clerk, at (202)694-1040, at least 72 hours prior to the meeting date.

Person to Contact for Information: Judith Ingram, Press Officer, Telephone: (202) 694-1220.

Dayna C. Brown,
Secretary and Clerk of the Commission.

[FR Doc. 2017-14537 Filed 7-6-17; 4:15 pm]

BILLING CODE 6715-01-P